DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains in the control of the University of Colorado Museum, Boulder, CO. The human remains were removed from Converse County, WY.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the University of Colorado Museum professional staff in consultation with representatives of the Apache Tribe of Oklahoma; Arapahoe Tribe of the Wind River Reservation, Wyoming; Assiniboine and Sioux Tribes of the Fort Peck Indian Reservation, Montana; Cheyenne and Arapaho Tribes, Oklahoma; Cheyenne River Sioux Tribe of the Cheyenne River Reservation, South Dakota; Comanche Nation, Oklahoma; Crow Tribe of Montana; Crow Creek Sioux Tribe of the Crow Creek Reservation, South Dakota; Flandreau Santee Sioux Tribe of South Dakota; Kiowa Indian Tribe of Oklahoma; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Standing Rock Sioux Tribe of North & South Dakota; Three Affiliated Tribes of the Fort Berthold Reservation, North Dakota; and Yankton Sioux Tribe of South Dakota.

In 1948, 1949, 1952, 1956, or 1963, human remains representing a minimum of one individual were removed from a cave at Little Box Elder Site, in Converse County, WY. The human remains were removed by either a museum archeological crew, which excavated the site in 1948 (test), 1949, 1952, and 1956, or by Dr. Robinson, Paleontology Curator Emeritus, who excavated stratigraphically at the site in 1963. The property is private and belonged to Orsa D. Ferguson who passed away in the 1950s, and then it belonged to his brother-in-law, William Barber. The human remains were found in the Paleontology section of the museum during re-analysis and transferred to the Anthropology section of the museum for NAGPRA compliance. No known individual was identified. No associated funerary objects are present.

The human remains are Native American based on the biological assessment and the site context. The cave dates from recent time to 15,000 years before present. Evidence of human occupation was present in the upper levels. The earliest levels contained a “nest” of three spherical stones of material foreign to the cave deposits, suggesting the possibility of human occupation at that time. During preliminary re-study of material from the cave, two tools were identified. Both were made from elements of extinct horse (Equus conversidens). The site also yielded several tools made from mountain goat humeri and metapodial. Although not extinct, mountain goat is no longer present in the region of Little Box Elder.

Officials of the University of Colorado Museum have determined that, pursuant to 25 U.S.C. 3001(9), the human remains described above represent the physical remains of one individual of Native American ancestry. Lastly, officials of the University of Colorado Museum have determined that, pursuant to 25 U.S.C. 3001(2), a relationship of shared group identity cannot reasonably be traced between the Native American human remains and any present-day Indian tribe.

The Native American Graves Protection and Repatriation Review Committee (Review Committee) is responsible for recommending specific actions for disposition of culturally unidentifiable human remains. In October 2009, the University of Colorado Museum requested that the Review Committee recommend disposition of the culturally unidentifiable human remains to the Arapahoe Tribe of the Wind River Reservation, Wyoming, based on Arapaho aboriginal land claims and supported by oral tradition, as well as the support of the other Indian tribes consulted. The Comanche Nation, Oklahoma, signed the disposition agreement in support of the disposition to the Arapahoe Tribe. Furthermore, none of the Indian tribes consulted objected to the determination of “culturally unidentifiable” status by the University of Colorado Museum and the disposition to the Arapahoe Tribe of the Wind River Reservation, Wyoming.

The Review Committee considered the proposal at its October 30-31, 2009, meeting and recommended disposition of the human remains to the Arapahoe Tribe of the Wind River Reservation, Wyoming. The Secretary of Interior agreed with the Review Committee's recommendation. An April 19, 2010, letter from the Designated Federal Officer, writing on behalf of the Secretary of the Interior, transmitted the authorization for the University of Colorado Museum to effect disposition of the physical remains of the culturally unidentifiable individual to the Arapahoe Tribe of the Wind River Reservation, Wyoming, contingent on the publication of a Notice of Inventory Completion in the Federal Register. This notice fulfills that requirement.

Representatives of any other Indian tribe that believes itself to be culturally affiliated with the human remains should contact Steve Lekson, Curator of Anthropology, University of Colorado Museum, in care of Jan Bernstein, NAGPRA Consultant, Bernstein & Associates, 1041 Lafayette St., Denver, CO 80218, telephone (303) 894-0648, before September 2, 2010. Disposition of the human remains to the Arapahoe Tribe of the Wind River Reservation, Wyoming, may proceed after that date if no additional claimants come forward.

The University of Colorado Museum is responsible for notifying the Apache Tribe of Oklahoma; Arapahoe Tribe of the Wind River Reservation, Wyoming; Assiniboine and Sioux Tribes of the Fort Peck Indian Reservation, Montana; Cheyenne and Arapaho Tribes, Oklahoma; Cheyenne River Sioux Tribe of the Cheyenne River Reservation, South Dakota; Comanche Nation, Oklahoma; Crow Tribe of Montana; Crow Creek Sioux Tribe of the Crow Creek Reservation, South Dakota; Flandreau Santee Sioux Tribe of South Dakota; Kiowa Indian Tribe of Oklahoma; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Standing Rock Sioux Tribe of North & South Dakota; Three Affiliated Tribes of the Fort Berthold Reservation, North Dakota; and Yankton Sioux Tribe of South Dakota, that this notice has been published.

Dated: July 26, 2010
Sherry Hutt,
Manager, National NAGPRA Program.

[FR Doc. 2010-19004 Filed 8-2-10; 8:45 am]

BILLING CODE 4312-50-S